ENVIRONMENTAL PROTECTION AGENCY

[FRL-7621-8]

Notice of Open Meeting; Environmental Financial Advisory Board; March 9-10, 2004

The Environmental Protection Agency's (EPA) Environmental Financial Advisory Board (EFAB) will hold an open meeting of the full Board in Washington, DC on March 9-10, 2004. The meeting will be held at the National Press Club, 13th Floor in the Holeman Lounge, 14th and F Street, NW., Washington, DC. The Tuesday, March 9 session will run from 8:30 a.m. to 5 p.m. and the Wednesday, March 10 session will begin at 8:30 a.m. and end at approximately 11 a.m.

EFAB is chartered with providing analysis and advice to the EPA Administrator and program offices on environmental finance. The purpose of this meeting is to hear from informed speakers on environmental finance issues, proposed legislation and Agency priorities and to discuss progress with work products under EFAB's current strategic action agenda. Environmental financing topics expected to be discussed include: Joint Operations of the State Revolving Fund Programs; Non-Point Source Financing; Affordability; Innovative Financing Tools; Preventing Future Non-Funded Abandoned Sites; and Useful Life Financing of Water Facilities.

The meeting is open to the public, but seating is limited. To confirm your participation or get further information, please contact Alecia Crichlow, EFAB Meeting Coordinator, U.S. EPA on (202) 564-5188.

Dated: February 3, 2004.
Joseph Dillon,
Director, Office of Enterprise, Technology and Innovation.

[FR Doc. 04-3089 Filed 2-11-04; 8:45 am]

BILLING CODE 6560-50-P